DEPARTMENT OF COMMERCE

International Trade Administration

[A-570-905]

Certain Polyester Staple Fiber From the People's Republic of China: Extension of Time Limit for the Final Results of the Second Antidumping Duty Administrative Review

AGENCY: Import Administration, International Trade Administration, Department of Commerce

DATES: Effective Date: December 10, 2010.

FOR FURTHER INFORMATION CONTACT: Steven Hampton or Jerry Huang, AD/CVD Operations, Office 9, Import Administration, International Trade Administration, U.S. Department of Commerce, 14th Street and Constitution Avenue, NW., Washington, DC 20230; telephone: (202) 482-0116 or (202) 482-4047, respectively.

Background

On July 14, 2010, the Department of Commerce (“Department”) published in the Federal Register the Preliminary Results of the second administrative review of certain polyester staple fiber (“PSF”) from the People's Republic of China (“PRC”), covering the period June 1, 2008—May 31, 2009. See Certain Polyester Staple Fiber From the People's Republic of China: Notice of Preliminary Results and Preliminary Rescission, in Part, of the Antidumping Duty Administrative Review, 75 FR 40777 (July 14, 2010) (“Preliminary Results”).

The final results of this review are currently due on December 20, 2010. See Second Antidumping Duty Administrative Review of Certain Polyester Staple Fiber From the People's Republic of China: Extension of Time Limit for the Final Results, 75 FR 64694 (October 20, 2010).

Extension of Time Limit for the Final Results

Section 751(a)(3)(A) of the Tariff Act of 1930, as amended (“the Act”), requires the Department to issue the final results of an administrative review within 120 days after the date on which the Preliminary Results have been published. If it is not practicable to complete the review within the time period, section 751(a)(3)(A) of the Act allows the Department to extend this deadline to a maximum of 180 days. The current deadline for the completion of the final results of this review is December 20, 2010.

The Department has determined that completion of the final results of this review by the current deadline is not practicable. The Department requires more time to analyze a significant amount of complex information pertaining to the labor wage rate surrogate value. Therefore, given the number and complexity of issues in this case, and in accordance with section 751(a)(3)(A) of the Act, we are extending the time period for issuing the final results of review until January 10, 2011.

This notice is published pursuant to sections 751(1)(3)(A) and 777(i)(1) of the Act and 19 CFR 351.213(h)(2).

Dated: December 6, 2010.
Christian Marsh,
Deputy Assistant Secretary for Antidumping and Countervailing Duty Operations.

[FR Doc. 2010-31115 Filed 12-9-10; 8:45 am]

BILLING CODE 3510-DS-P